DEPARTMENT OF JUSTICE

Antitrust Division

Notice Pursuant to the National Cooperative Research and Production Act of 1993—Cooperative Research Group on Hedge V

Notice is hereby given that, on July 14, 2022, pursuant to Section 6(a) of the National Cooperative Research and Production Act of 1993, 15 U.S.C. 4301 et seq. (“the Act”), Cooperative Research Group on HEDGE V (“HEDGE V”) has filed written notifications simultaneously with the Attorney General and the Federal Trade Commission disclosing changes in its membership. The notifications were filed for the purpose of extending the Act's provisions limiting the recovery of antitrust plaintiffs to actual damages under specified circumstances. Specifically, FCA US LLC, Auburn Hills, MI has withdrawn as a party to this venture.

No other changes have been made in either the membership or planned activity of the group research project. Membership in this group research project remains open, and HEDGE V intends to file additional written notifications disclosing all changes in membership.

On June 22,2021, HEDGE V filed its original notification pursuant to Section 6(a) of the Act. The Department of Justice published a notice in the Federal Register pursuant to Section 6(b) of the Act on August 16, 2021 (86 FR 45750).

The last notification was filed with the Department on January 13, 2022. A notice was published in the Federal Register pursuant to Section 6(b) of the Act on March 10, 2022 (87 FR 13759).

Suzanne Morris,
Chief, Premerger and Division Statistics, Antitrust Division.

[FR Doc. 2022-16407 Filed 7-29-22; 8:45 am]

BILLING CODE 4410-11-P